NATIONAL CREDIT UNION ADMINISTRATION

Notice of Meeting

Time and Date: 10 a.m., Thursday, October 19, 2006.

Place: Board Room, 7th Floor, Room 7047, 1775 Duke Street, Alexandria, VA 22314-3428.

Status: Open.

Matters to be Considered:

1. Quarterly Insurance Fund Report.

2. Interim Final Rule: Part 701 of NCUA's Rules and Regulations, General Lending Maturity and Other Financial Services.

3. Final Rule: Section 748.1(c) of NCUA's Rules and Regulations, Suspicious Activity Reports.

FOR FURTHER INFORMATION CONTACT: Mary Rupp, Secretary of the Board, telephone: 703-518-6304.

Mary Rupp,
Secretary of the Board.

[FR Doc. 06-8739 Filed 10-12-06; 5:02 pm]

BILLING CODE 7535-01-M